DEPARTMENT OF THE INTERIOR

Bureau of Land Management

[NV-060-3809]

Notice of Availability; Draft Supplemental Environmental Impact Statement; Pit Expansion Project; Proposed Expansion of Existing Gold Mining/Processing Operations; Lander County, NV

AGENCY: Bureau of Land Management, Interior.

Cooperating Agency: Nevada Department of Wildlife.

ACTION: Notice of availability of the draft supplemental environmental impact statement for the Pit Expansion Project, Lander County, Nevada.

SUMMARY: Pursuant to section 102(2)(c) of the National Environmental Policy Act of 1969 and the Council on Environmental Quality Regulations found at 40 CFR 1500-1508, notice is hereby given of the availability of the Draft Supplemental Environmental Impact Statement for comment, prepared by the Battle Mountain Field Office of the Bureau of Land Management (BLM). The statement analyzes the environmental effects of the Proposed Action, Complete Backfill Alternative, No Backfill Alternative, and the No Action Alternatives.

DATES: Written comments must be post-marked or otherwise delivered by 4:30 p.m. (Pacific time zone) on July 26, 2004. Comments may also be presented at public meetings to be held in Battle Mountain, NV, and Crescent Valley, NV. Dates of public meetings will be announced through the local newspapers.

A limited number of copies of the Draft Supplemental EIS may be obtained at the Battle Mountain BLM Field Office.

ADDRESSES: Written comments should be addressed to the Bureau of Land Management, attn: Pam Jarnecke, Battle Mountain Field Office, 50 Bastian Road, Battle Mountain, Nevada 89820.

FOR FURTHER INFORMATION CONTACT: Pam Jarnecke, Battle Mountain BLM at (775) 635-4144.

SUPPLEMENTARY INFORMATION: Cortez Gold Mines (CGM) proposes to expand its current gold mining operations 30 miles southeast of Battle Mountain, Nevada. The proposed Pit Expansion Project would not result in an increase in surface disturbance beyond the 7,676 acres previously approved. Actions associated with the Project would consist of the following: Expand the South Pipeline open pit to the east, southeast, and southwest; increase the depth of the Pipeline/South Pipeline open pit; use resulting waste rock as backfill into portions of the Pipeline/South Pipeline open pit; increase the height of the approved South Area Heap Leach pad from a height of 250 feet to 300 feet above ground surface; increase the approved Area 28 tailings and heap leach facility height from 250 feet to 300 feet above ground surface; construct an additional waste rock dump on the backfilled portion of the open pit; construct the 125-acre Gap waste rock dump; increase the approved mining rate from an average 150,000 tons per day (tpd) with a maximum of 250,000 tpd to an average of 350,000 tpd with a maximum of 500,000 tpd; translocate waste rock within the Pipeline/South Pipeline open pit, including portions of the expanded open pit; conduct certain activities at the approved Cortez facility without modification to the facility; install ground water extraction wells (ground water extraction from the existing and planned wells would not exceed the approved annualized average rate of 34,500 gallons per minute); and continue management of mine dewatering as outlined in the Pipeline Infiltration Plan and South Pipeline EIS. The proposed additional development of the South Pipeline ore deposit would provide up to seven additional years of mining and processing. The combined life of the Pipeline Project, the South Pipeline Project and the Proposed Action would be up to 25 years.

Gerald M. Smith,
Field Manager.

[FR Doc. 04-13267 Filed 6-9-04; 8:45 am]

BILLING CODE 4310-HC-P